DEPARTMENT OF HOUSING AND URBAN DEVELOPMENT

[Docket No. FR-7050-N-53]

30-Day Notice of Proposed Information Collection: Manufactured Home Construction and Safety Standards Program; OMB Control No.: 2502-0233; Correction

AGENCY: Office of Policy Development and Research, Chief Data Officer, HUD.

ACTION: Notice; correction.

SUMMARY: The Department of Housing and Urban Development published a document in the Federal Register of October 19, 2022, an information collection notice concerning the safety standards program for mobile home construction. The document contained an incorrect comment closing date.

FOR FURTHER INFORMATION CONTACT: Colette Pollard, Reports Management Officer, REE, Department of Housing and Urban Development, 451 7th Street, SW, Washington, DC 20410; email Colette Pollard at Colette.Pollard@hud.gov or telephone 202-402-3400. This is not a toll-free number. HUD welcomes and is prepared to receive calls from individuals who are deaf or hard of hearing, as well as individuals with speech and communication disabilities. To learn more about how to make an accessible telephone call, please visit: https://www.fcc.gov/consumers/guides/telecommunications-relay-service-trs. Copies of available documents submitted to OMB may be obtained from Ms. Pollard.

SUPPLEMENTARY INFORMATION:

Correction

In the Federal Register of October 19, 2022, in FR Doc 2022-22681, on page 63518, in the second column, correct the Dates caption to read:

DATES: Comments Due Date: November 18, 2022.

Colette Pollard,
Department Reports Management Officer, Office of Policy Development and Research, Chief Data Officer.

[FR Doc. 2022-23189 Filed 10-24-22; 8:45 am]

BILLING CODE 4210-67-P